DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. chapter 35). To request a copy of the clearance requests submitted to OMB for review, call the HRSA Reports Clearance Office on (301)-443-1129.

The following request has been submitted to the Office of Management and Budget for review under the Paperwork Reduction Act of 1995:

Proposed Project: The Health Education Assistance Loan (HEAL) Program (OMB No. 0915-0034)—Revision

This clearance request is for the approval for the revision of two HEAL forms and two electronic data collection activities: the Lenders Application for Contract of Federal Loan Insurance form (used by lenders to make application to the HEAL insurance program); the Borrower's Deferment Request form (used by borrowers to request deferments on HEAL loans and used by lenders to determine borrower's eligibility for deferment); the Borrower Loan Status update electronic submission (submitted monthly by lenders to the Secretary on the status of each loan); and the Loan Purchase/Consolidation electronic submission (submitted by lenders to the Secretary to report sales, purchases, and consolidation of HEAL loans).

The estimate of burden for the forms are as follows:

HRSA form | Number of respondents | Responses per respondent | Total responses | Hours per responses | Total burden hours
Lender's Application for Contract of Federal Loan Insurance | 28 | 1 | 28 | 8 min. | 4
Borrower's Deferment Request:
Borrowers | 4,642 | 1 | 4,642 | 10 min. | 774
Employers | 2,780 | 1.669 | 4,642 | 5 min. | 387
Borrower Loan Status Update Electronic Submission | 8 | 18 | 144 | 10 min. | 24
Loan Purchase/Consolidation Electronic Submission | 28 | 248 | 6,944 | 4 min. | 463
Total | 7,486 |  | 16,400 |  | 1,652

Written comments and recommendations concerning the proposed information collection should be sent within 30 days of this notice to: Allison Eydt, Human Resources and Housing Branch, Office of Management and Budget, New Executive Office Building, Room 10235, Washington, DC 20503, Fax Number (202) 395-6974.

Dated: June 24, 2003.
Jane M. Harrison,
Director, Division of Policy Review and Coordination.

[FR Doc. 03-16492 Filed 6-27-03; 8:45 am]

BILLING CODE 4165-15-P